OFFICE OF THE UNITED STATES TRADE REPRESENTATIVE

Implementation of Tariff-Rate Quota for Imports of Beef From Australia

AGENCY: Office of the United States Trade Representative.

ACTION: Notice.

SUMMARY: The Office of the United States Trade Representative (USTR) is providing notice that USTR has determined that Australia, pursuant to its request, is a participating country for purposes of the export certification program for imports of beef under the tariff-rate quota.

DATES: The action is effective August 1, 2002.

FOR FURTHER INFORMATION CONTACT: Jason Bernstein, Senior Economist for Agricultural Affairs, Office of the United States Trade Representative, 600 17th Street NW., Washington, DC 20508; telephone: (202) 395-6127.

SUPPLEMENTARY INFORMATION: The United States maintains a tariff-rate quota on imports of beef as part of its implementation of the Marrakesh Agreement Establishing the World Trade Organization. The in-quota quantity of that tariff-rate quota is allocated in part among a number of countries. As part of the administration of that tariff-rate quota, USTR provided, in 15 CFR part 2012, for the use of export certificates with respect to imports of beef from countries that have an allocation of the in-quota quantity. The export certificates apply only to those countries that USTR determines are participating countries for purposes of 15 CFR part 2012.

On May 22, 2002, USTR received a request and the necessary supporting information from the government of Australia to be considered as a participating country for purposes of the export certification program. Accordingly, USTR has determined that, effective August 1, 2002, Australia is a participating country for purposes of 15 CFR part 2012. As a result, imports of beef from Australia entered on or after August 1, 2002, will need to be accompanied by an export certificate in order to qualify for the in-quota tariff rate; imports of beef from Australia entered prior to August 1, 2002, will not require an export certificate. In order for the export certificate to be valid, it must satisfy the requirements of 15 CFR part 2012, including being used in the calendar year for which it is in effect.

Robert B. Zoellick,
United States Trade Representative.

[FR Doc. 02-17992 Filed 7-16-02; 8:45 am]

BILLING CODE 3190-01-U